DEPARTMENT OF THE INTERIOR

Bureau of Land Management

[OR-030-02-1610-DR: GP 2-0358]

Notice of Availability of the Record of Decision for the Southeastern Oregon Resource Management Plan and Final Environmental Impact Statement

AGENCY: Bureau of Land Management, Vale District.

ACTION: Notice of availability of the Record of Decision (ROD) for the Southeastern Oregon Resource Management Plan (SEORMP) and Final Environmental Impact Statement (EIS).

SUMMARY: In accordance with the National Environmental Policy Act of 1969 (40 CFR 1550.2), and the Federal Land Policy and Management Act of 1976, the Bureau of Land Management (BLM) has issued a ROD for the Proposed SEORMP EIS. The ROD documents approval of BLM's plan to manage the public lands within the Jordan and Malheur Resource Areas of the Vale District during the next 15-20 years and beyond. The SEORMP establishes direction for management on approximately 4.6 million acres of BLM administered public lands in southeast Oregon. The SEORMP is the same as the Proposed SEORMP published in November 2001.

EFFECTIVE DATES: Two protests were submitted during the 30-day protest period for the Proposed SEORMP. Both of the protests were responded to and resolved by the Director of the BLM. Resolution of the protests, signing of the ROD, and publication of this notice allows for immediate implementation of the approved SEORMP.

ADDRESSES: The approved plan is being published and will be mailed to all persons or groups who are on the current RMP mailing list. Additional copies will be available upon request at the District Office. The document will also be available on line at http://www.or.blm.gov/Vale/, and on compact disks available at the Vale District Office, 100 Oregon Street, Vale, OR 97918.

FOR FURTHER INFORMATION CONTACT: Jerry Taylor, Jordan Field Manager; or Tom Dabbs, Malheur Field Manager by telephone at (541) 473-3144.

SUPPLEMENTARY INFORMATION: The SEORMP is a general land use plan that establishes guidance for managing a broad spectrum of land uses and allocations and contains resource objectives, land use allocations, management actions and direction needed to achieve program and multiple use goals. The Record of Decision documents selection of the preferred alternative as presented in the Proposed SEORMP and Final EIS issued November 2001, with associated Appendices, Tables and Maps, as the approved RMP.

The following are the major components of the approved RMP:

—Direction to meet or exceed Air Quality Standards.

—Provide opportunities for exploration and development of energy and mineral resources while protecting other sensitive resources.

—Provide for an appropriate management response on all wildfires, while providing for fire fighter and public safety and protecting resource values.

—Recognize and utilize fire as a critical natural process to protect, maintain, and enhance resources.

—Restore, protect, and enhance the diversity and distribution of desirable vegetation communities.

—Manage big sagebrush cover in seedings and on native rangeland to meet the life history requirements of sagebrush-dependent wildlife.

—Control the introduction and proliferation of noxious weed species and reduce the extent and density of established weed species to within acceptable limits.

—Manage ponderosa pine, Douglas fir, and western larch communities to emphasize forest health.

—Manage western juniper and aspen woodlands to restore and promote productivity.

—Manage public land to maintain, restore, or enhance populations and habitats of special status plant and animal species.

—Manage public lands by ensuring that surface water and ground water influenced by BLM activities comply with or are making progress toward achieving State of Oregon water quality standards for beneficial uses as established per stream by the Oregon Department of Environmental Quality.

—Manage riparian/wetland areas for the restoration, maintenance, or improvement of riparian vegetation, habitat diversity, and associated watershed function to achieve healthy and productive riparian areas and wetlands.

—Restore, maintain, or improve habitat to provide for diverse and self-sustaining communities of fishes and other aquatic organisms.

—Manage upland habitats so that the forage, water, cover, and structure necessary for wildlife are available on public land.

—Maintain and manage wild horse herds in seven established herd management areas (HMA's) of Vale District and Heath Creek-Sheephead HMA of Burns District at appropriate management levels (AML's) to ensure a thriving natural ecological balance between wild horse populations, wildlife, livestock, vegetation resources, and other resource values.

—Provide for a sustained level of livestock grazing consistent with other resource objectives and public land use allocations.

—Provide and enhance developed and undeveloped recreation opportunities, while protecting resources, to manage the increasing demand for resource-dependent recreation activities.

—Manage off-highway vehicle (OHV) use to protect resource values, promote public safety, provide OHV use opportunities where appropriate, and minimize conflicts among various users. Designate public lands for OHV use as “Open” on 2,615,066 acres, “Limited” on 2,004,369 acres, and “Closed” on 15,826 acres.

—Manage public land actions and activities in a manner to be consistent with visual resource management (VRM) class objectives. Designate and manage 1,308,297 acres as VRM Class I, 217,226 acres as VRM Class II, 639,657 acres as VRM Class III, and 2,469,509 acres as VRM Class IV.

—Retain and/or designate 26 areas totaling 206,257 acres as Areas of Critical Environmental Concern (ACECs).

—Manage the congressionally designated Main Owyhee (120 miles, 35,240 acres), West Little Owyhee (58 miles, 12,520 acres) and North Fork Owyhee (10 miles, 1,247 acres) components of the National Wild and Scenic Rivers System.

—Recommend and manage four river segments (42.5 miles) as administratively suitable for designation as wild and scenic rivers. Release from further wild and scenic river consideration 145.5 miles of eligible study river segments determined to be non-suitable for wild and scenic river designation.

—Continue managing 32 wilderness study areas (WSA's—1,273,015 acres) under BLM's “Interim Management Policy for Land under Wilderness Review” (IMPLWR).

—Manage public land and pursue partnerships to provide social and economic benefits to local residents, businesses, visitors, and future generations.

—Provide for the protection and conservation of cultural and paleontological resources.

—Consult and coordinate with American Indian groups to ensure their interests are considered and their traditional religious sites, landforms and resources are taken in to account.

—Meet public needs for use authorizations such as rights-of-way, leases and permits consistent with other resource objectives.

—Acquire and maintain legal public access to public land consistent with other resource objectives.

—Lands are identified for retention and acquisition to consolidate public land holdings while retaining and acquiring land with high and public resource values.

David R. Henderson,
District Manager.

[FR Doc. 03-8079 Filed 4-2-03; 8:45 am]

BILLING CODE 4310-33-P